DEPARTMENT OF AGRICULTURE

Animal and Plant Health Inspection Service

7 CFR Part 319

[Docket No. APHIS-2014-0092]

RIN 0579-AE17

Importation of Lemons From Northwest Argentina; Stay of Regulations

AGENCY: Animal and Plant Health Inspection Service, USDA.

ACTION: Final rule; stay of regulations.

SUMMARY: On December 23, 2016, we published a final rule amending the fruits and vegetables regulations to allow the importation of lemons from northwest Argentina into the continental United States under certain conditions. In this document, we are issuing a stay of those regulations for 60 days.

DATES: Effective January 25, 2017, 7 CFR 319.28(e) and 319.56-76 are stayed until March 27, 2017.

FOR FURTHER INFORMATION CONTACT: Mr. Stephen O'Neill, Chief, Regulatory Analysis and Development, PPD, APHIS, 4700 River Road Unit 118, Riverdale, MD 20737-1234; (301) 851-3175.

SUPPLEMENTARY INFORMATION: On December 23, 2016, we published a final rule (81 FR 94217-94230) amending the fruits and vegetables regulations to allow the importation of lemons from northwest Argentina into the continental United States under certain conditions. In this document, we are issuing a stay of those regulations for 60 days in accordance with guidance issued January 20, 2017, intended to provide the new Administration an adequate opportunity to review new and pending regulations.

Authority: 7 U.S.C. 450, 7701-7772, and 7781-7786; 21 U.S.C. 136 and 136a; 7 CFR 2.22, 2.80, and 371.3.

Done in Washington, DC, this 23rd day of January 2017.
Michael C. Gregoire,
Acting Administrator, Animal and Plant Health Inspection Service.

[FR Doc. 2017-01773 Filed 1-24-17; 8:45 am]

BILLING CODE 3410-34-P